DEPARTMENT OF ENERGY

Office of Energy Efficiency & Renewable Energy

Notice of Public Release of Stewardship of the National Training and Education Resource (NTER)®

AGENCY: Office of Energy Efficiency & Renewable Energy, Department of Energy (DOE)

ACTION: Notice.

SUMMARY: The Department of Energy (DOE) today gives notice to inform any interested parties that:

• DOE will no longer provide financial support for development and web hosting of the National Training and Education Resource (NTER)®.

• DOE is releasing stewardship of the learning management system (LMS) and content management system (CMS) of NTER® to the open source community, consistent with the original development strategy.

• Parties interested in the LMS and the CMS should follow the guidance in the SUPPLEMENTARY INFORMATION Section below.

DATES: Public release will occur on November 30, 2015.

ADDRESSES: U.S. Department of Energy, Forrestal Building, 1000 Independence Ave. SW., Washington, DC 20585-1615, Attn: John Lushetsky.

FOR FURTHER INFORMATION CONTACT: Requests for additional information should be directed to: The Office of Strategic Programs, U.S. Department of Energy, Mailstop EE-61T, 1000 Independence Avenue SW., Washington, DC 20585, Attn: John Lushetsky or by email at nwtp.Webmaster@ee.doe.gov.

SUPPLEMENTARY INFORMATION: The U.S. Department of Energy (DOE)'s mission is to ensure America's security and prosperity by addressing its energy, environmental, and nuclear challenges through transformative science and technology solutions. DOE developed the National Training and Education Resource (NTER)® to provide an open source platform for multimedia self-paced training courses designed to build skills in clean energy vocations at lower costs than proprietary packages. NTER® primarily consists of a learning management system (LMS) and a content management system (CMS) that streamlines the delivery of training and content to stakeholders. The LMS and the CMS were designed to leverage open source code and open data, enabling educators to create content and students to take courses easily. These systems have offered DOE and other organizations a unified platform to provide state-of-the-art training. NTER® users have earned certifications and demonstrated competencies that translate directly into on-the-job performance. The highly modular design has allowed NTER® to be used as a stand-alone open-source toolkit or to be combined with proprietary third-party materials.

Over the last several years, the open source community has demonstrated the ability to assume stewardship and development of the LMS and the CMS of NTER® to maximize the use and market adoption of these educational tools. Multiple organizations, with expertise in open source development of educational content, have incorporated and adapted the NTER® elements and are offering services based on it. DOE believes that these organizations and the open source community are most qualified to maintain and build upon the success of the LMS and CMS of NTER® and will continue to provide state-of-the-art training platforms for educators and students.

The LMS and CMS of NTER® can be found at the NTER® URL (www.nterlearning.org). The software and data are available to the public under an open source license and an open data license. DOE willno longer maintain and support the NTER® URL after April 1, 2016. Therefore, parties interested in the LMS and CMS should visit the NTER® URL as soon as possible in order to download the necessary software and data.

NTER® is a registered trademark of DOE. Any party who uses or builds upon the LMS and CMS of NTER® may disclose that its training platform is based upon or a derivative to the LMS and the CMS of NTER®. No party shall use the NTER® trademark or identify DOE in any manner that would cause a reasonable person to believe that its training platform is being offered, supported, or endorsed by NTER® or DOE.

Issued in Golden, CO, on: November 30, 2015.
Stephanie Carabajal,
Contracting Officer.

[FR Doc. 2015-30997 Filed 12-8-15; 8:45 am]

BILLING CODE 6450-01-P